DEPARTMENT OF THE INTERIOR

National Park Service

[NPS-WASO-NAGPRA-NPS0038923; PPWOCRADN0-PCU00RP14.R50000]

Notice of Intended Repatriation: Museum of Us, San Diego, CA

AGENCY: National Park Service, Interior.

ACTION: Notice.

SUMMARY: In accordance with the Native American Graves Protection and Repatriation Act (NAGPRA), the Museum of Us intends to repatriate certain cultural items that meet the definition of unassociated funerary objects and that have a cultural affiliation with the Indian Tribes or Native Hawaiian organizations in this notice.

DATES: Repatriation of the cultural items in this notice may occur on or after November 21, 2024.

ADDRESSES: Carmen Mosley, NAGPRA Repatriation Manager, Museum of Us, 1350 El Prado, Balboa Park, San Diego, CA 92101, telephone (619) 239-2001 Ext. 42, email cmosley@museumofus.org.

SUPPLEMENTARY INFORMATION: This notice is published as part of the National Park Service's administrative responsibilities under NAGPRA. The determinations in this notice are the sole responsibility of the Museum of Us, and additional information on the determinations in this notice, including the results of consultation, can be found in the summary or related records. The National Park Service is not responsible for the determinations in this notice.

Abstract of Information Available

A total of 12 cultural items have been requested for repatriation. The 12 unassociated funerary objects are from three separate acquisitions.

In December of 1954, Adele Ronecker of San Diego, CA, donated one blade from Stewart County, TN and one bird effigy pipe from Southeastern United States to the San Diego Museum of Man (now Museum of Us), along with a collection of 112 other Native American cultural items from California, Texas, New Mexico, Southeastern United States, Mexico and Southeast Asia. Acquisition records indicate that Ms. Ronecker received the cultural items from Lemley Osborne of Las Cruces, New Mexico.

In May of 1955, the San Diego Museum of Man (now Museum of Us) purchased one shell gorget from Hamilton County, TN, along with 11 other Native North American items, from Earl Townsend Jr., an attorney from Indianapolis, IN. The donor collected the gorget from a mound in the Tennessee River at the mouth of the Chickamauga Creek.

In July of 1957, George A. Leupold of San Diego, CA, donated seven lanceolate points and one adze from Sparta, White County, TN, and one discoidal from Tyron, Polk County, NC, to the San Diego Museum of Man (now Museum of Us). This acquisition included an additional 57 Native American cultural items (e.g., points, axes, ceramic sherds, bone awls, and discoidals) from Wisconsin, Illinois, Missouri, Tennessee, and adjoining areas. The Museum of Us has no additional information on how and/or when Mr. Leupold acquired the aforementioned items.

Determinations

The Museum of Us has determined that:

• The 12 unassociated funerary objects described above are reasonably believed to have been placed intentionally with or near individual human remains, and are connected, either at the time of death or later as part of the death rite or ceremony and are believed, by a preponderance of the evidence, to have been removed from a specific burial site of an individual or individuals with cultural affiliation to an Indian Tribe or Native Hawaiian organization.

• There is a reasonable connection between the cultural items described in this notice and the Cherokee Nation; Eastern Band of Cherokee Indians; and the United Keetoowah Band of Cherokee Indians in Oklahoma.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after November 21, 2024. If competing requests for repatriation are received, the Museum of Us must determine the most appropriate requestor prior to repatriation. Requests for joint repatriation of the cultural items are considered a single request and not competing requests. The Museum of Us is responsible for sending a copy of this notice to the Indian Tribes and Native Hawaiian organizations identified in this notice and to any other consulting parties.

Authority: Native American Graves Protection and Repatriation Act, 25 U.S.C. 3004 and the implementing regulations, 43 CFR 10.9.

Dated: October 11, 2024.
Melanie O'Brien,
Manager, National NAGPRA Program.

[FR Doc. 2024-24416 Filed 10-21-24; 8:45 am]

BILLING CODE 4312-52-P